DEPARTMENT OF TRANSPORTATION

Federal Aviation Administration

14 CFR Part 61

[Docket No. FAA-2004-19630; Amendment No. 61-109]

RIN 2120-AI38

Second-in-Command Pilot Type Rating

AGENCY: Federal Aviation Administration (FAA), DOT.

ACTION: Final rule; correction.

SUMMARY: We are correcting errors in a final rule published in the Federal Register on August 4, 2005. That final rule revised pilot certification regulations by establishing a second-in-command (SIC) pilot type rating and associated qualifying procedures. We are also correcting cross references and other minor errors in the pre-existing regulations that were inadvertently carried over.

DATES: These corrections are effective September 6, 2005.

FOR FURTHER INFORMATION CONTACT: John D. Lynch, Certification and General Aviation Operations Branch, AFS-840, General Aviation and Commercial Division, Flight Standards Service, Federal Aviation Administration, 800 Independence Avenue, SW., Washington, DC 20591; telephone (202) 267-3844 or via the Internet at: john.d.lynch@faa.gov.

SUPPLEMENTARY INFORMATION:

Background

On August 4, 2005, the FAA amended its regulations to provide for issuance of a pilot type rating for SIC privileges when a person completes the SIC pilot familiarization training set forth under 14 CFR 61.55(b), an FAA-approved SIC training curriculum under 14 CFR parts 121 or 135, or a proficiency check under 14 CFR part 125. See 70 FR 45263. The amendments adopted on August 4, 2005, are based on a notice of proposed rulemaking (NPRM) published in the Federal Register on November 16, 2004. See 69 FR 67258.

The amendments require pilots acting as second in command and who plan to fly outside U.S. domestic airspace and land in foreign countries to obtain the SIC pilot type rating. The amendments also established two procedures for obtaining the SIC pilot type rating. The effective date of the amendments is September 6, 2005. The effective date is the date the amendments affect the current Code of Federal Regulations.

On September 9, 2005, the FAA published a final rule establishing a compliance date for the SIC pilot type rating final rule. See 70 FR 53560. The compliance date is June 6, 2006. A compliance date, in contrast to an effective date, is the date that those affected by the rule must begin to follow it. Thus, pilots acting as a second in command and who will be flying outside U.S. domestic airspace and landing in a foreign country must hold the appropriate SIC pilot type rating no later than June 6, 2006.

Neither the effective date, nor the compliance date, of the final rule are affected by these corrections. These corrections are effective as if they had been included in the final rule. Accordingly, these corrections have the same effective date as the final rule, September 6, 2005.

Description of Corrections

As described below, the FAA is making non-substantive corrections to the SIC pilot type rating final rule.

14 CFR 61.55(a)

We are deleting the introductory phrase “Except as provided in paragraph (f) of this section.” That phrase erroneously excludes pilots employed by operators that conduct operations under subpart K of part 91, parts 121, 125, or 135 from the requirement to hold a SIC pilot type rating. In the preamble of the final rule, we did not exclude pilots conducting operations under subpart K of part 91, parts 121, 125, or 135 from the requirement to hold the SIC pilot type rating when operating an aircraft outside U.S. domestic airspace that takeoffs or lands in a foreign country. The entire purpose for the amendments under 14 CFR 61.55 was to conform U.S. pilot type rating requirements to the International Civil Aviation Organization's (ICAO) pilot type ratings standards (See ICAO Annex 1, paragraphs 2.1.3.2 and 2.1.4.1.A). This change conforms the regulatory language to the preamble discussion.

14 CFR 61.55(a)(2)

We are adding the words “or privilege” to acknowledge that those who hold an airline transport pilot certificate where instrument privileges are inferred also may qualify for the SIC pilot type rating. This action corrects an error in the pre-existing rule that was inadvertently carried over into the final rule adopted on August 4, 2005.

14 CFR 61.55(b)

We are correcting an erroneous cross reference in the introductory language of this paragraph to read “Except as provided in paragraph (e) of this section.” By adding the SIC pilot type rating requirements while retaining some of the original language, the August 4, 2005, final rule unintentionally created an exception. Pilots who have satisfactorily completed a proficiency check or competency check under subpart K of part 91, parts 121, 125, or 135 do not have to complete the familiarization training of paragraph (b).

14 CFR 61.55(b)(2)

We are deleting the cross reference in the introductory language because it is unnecessary.

14 CFR 61.55(d) and (e)

We are adding the phrase “provided the training was completed within the 12 calendar months before the month of application for the SIC pilot type rating” to both paragraphs (d) and (e). This will conform the regulatory text to the preamble discussion in the August 4, 2005, final rule. In the preamble to the final rule, we provided examples illustrating that completion of the required training had to occur within the 12 calendar months before the month of application for the SIC pilot type rating. This was clearly the intent of the final rule, yet the corresponding regulatory language was inadvertently omitted from the regulatory text.

14 CFR 61.55(f)

We are amending the introductory language of this paragraph to exempt certain pilots from the familiarization training requirements of 14 CFR 61.55(b). This action corrects an error in pre-existing 14 CFR 61.55(d) that was inadvertently carried over into the August 4, 2005, final rule.

Pilots employed by operators that conduct operations under subpart K of part 91 and parts 121, 125, or 135 do not have to complete the SIC familiarization training described under paragraph (b) of this section. Instead, pilots that are employed by operators that conduct operations under subpart K of part 91 and parts 121, 125, or 135 must comply with the requirements of paragraph (e) of this section to qualify for a SIC pilot type rating.

14 CFR 61.55(i)

We are deleting the introductory phrase “Except as provided in paragraph (h) of this section.” This action corrects an error in pre-existing 14 CFR 61.55(g) that was inadvertently carried over into the August 4, 2005, final rule, which redesignated paragraph (g) as paragraph (i).

We are adding the phrase “The training required under paragraphs (b) and (d) of this section and the training and proficiency check required under paragraph (e) of this section.” This clarifies that a flight simulator may be used in an approved training course conducted by a training center certificated under part 142 of this chapter or for the training and proficiency check under parts 121 or 135 of this chapter. This is a non-substantive correction because parts 121 and 135 already allow the use of a flight simulator in an approved training course and for the required proficiency/competency check.

14 CFR 61.55(j)

We are deleting the phrase “who is qualifying under the terms of paragraph (g) of this section” because it is unnecessary. We also made editorial changes for the purpose of clarity.

Under our rules in effect before we adopted the August 4, 2005, final rule, certain pilots who received SIC training in an approved flight simulator did not have to complete at least one takeoff and landing in an aircraft of the type for which they were seeking the SIC qualification. See pre-existing 14 CFR 61.55(d). The August 4, 2005, final rule eliminated the exception. This had the unintentional effect of requiring the previously exempt simulator trainees to complete an actual takeoff and landing. This is a significant new requirement—one that we could not undertake without giving the public adequate notice and opportunity to comment. Thus, this correction adds a sentence to paragraph (j) of § 61.55 to re-establish the pre-existing exception. Pilots who complete a proficiency check under part 121 (i.e., § 121.441) or competency check under subpart K, part 91 (i.e., § 91.1065), part 125 (i.e., § 125.287), or part 135 (i.e., § 135.293) do not have to complete a takeoff and landing in an aircraft of the type for which they seek the SIC qualification.

Good Cause for Foregoing Public Notice and Comment

We ordinarily publish a notice of proposed rulemaking in the Federal Register to provide a period for public comment before a rule takes effect. This is to comply with section 553(b) of the Administrative Procedure Act (5 U.S.C. 553(b)). However, we can waive the public notice and comment procedure if we find, for good cause, that the notice and comment process is impracticable, unnecessary, or contrary to the public interest. We must provide a statement of the finding and the reasons for it.

The SIC pilot type rating requirements under the August 4, 2005, final rule were subject to notice and comment procedures. This correction notice makes changes to conform the regulatory text to the requirements described in the preamble of the August 4, 2005, final rule. This correction notice also changes incorrect references and corrects errors in the pre-existing regulations that were inadvertently carried over. This correction notice is intended to ensure that the August 4, 2005, final rule accurately reflects the SIC pilot type rating requirements. Therefore, we find it unnecessary to undertake further notice and comment procedures with respect to this correction notice.

Good Cause for Waiving the 30-Day Delay in Effective Date

We ordinarily provide a 30-day delay in the effective date of a final rule after the date of publication in the Federal Register. This is to comply with section 553(d) of the Administrative Procedure Act (5 U.S.C. 553(d)). However, we can waive the 30-day delay if we find, for good cause, that the delay is impracticable, unnecessary, or contrary to the public interest. We must provide a statement of the finding and the reasons for it.

We find that it is in the public interest to ensure that the August 4, 2005, final rule accurately reflects the SIC pilot type rating requirements. A delay in the effective date of these corrections would be contrary to the public interest. We also find that it is in the public interest to apply the changes in the correction notice retroactively to September 6, 2005, the effective date of the August 4, 2005, final rule. There is a limited amount of time available for affected pilots to comply with the final rule. The compliance date is June 6, 2006. Any further delay in the effective date of these changes would reduce the amount of time available.

List of Subjects in 14 CFR Part 61

Aircraft, Airmen, Aviation safety, and Reporting and recordkeeping requirements.

The Amendment

For the reasons stated above, the Federal Aviation Administration amends Chapter I of Title 14 of the Code of Federal Regulations as follows:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

2. Amend § 61.55 as follows:

a. Revise the introductory language of paragraph (a) as set forth below;

b. Revise paragraph (a)(2) as set forth below;

c. Revise the introductory language of paragraph (b) as set forth below;

d. Revise the introductory language of paragraph (b)(2) as set forth below;

e. Revise the introductory language of paragraph (d) as set forth below;

f. Revise the introductory language of paragraph (e) as set forth below;

g. Revise the introductory language of paragraph (f) as set forth below;

h. Revise paragraph (i) as set forth below; and

i. Revise paragraph (j) as set forth below:

§ 61.55 Second-in-command qualifications.

(a) A person may serve as a second-in-command of an aircraft type certificated for more than one required pilot flight crewmember or in operations requiring a second-in-command pilot flight crewmember only if that person holds:

* * * * *

(2) An instrument rating or privilege that applies to the aircraft being flown if the flight is under IFR; and

* * * * *

(b) Except as provided in paragraph (e) of this section, no person may serve as a second-in-command of an aircraft type certificated for more than one required pilot flight crewmember or in operations requiring a second-in-command unless that person has within the previous 12 calendar months:

* * * * *

(2) Except as provided in paragraph (g) of this section, performed and logged pilot time in the type of aircraft or in a flight simulator that represents the type of aircraft for which second-in-command privileges are requested, which includes—

* * * * *

(d) A person may receive a second-in-command pilot type rating for an aircraft after satisfactorily completing the second-in-command familiarization training requirements under paragraph (b) of this section in that type of aircraft provided the training was completed within the 12 calendar months before the month of application for the SIC pilot type rating. The person must comply with the following application and pilot certification procedures:

* * * * *

(e) A person may receive a second-in-command pilot type rating for the type of aircraft after satisfactorily completing an approved second-in-command training program, proficiency check, or competency check under subpart K of part 91, part 121, part 125, or part 135, as appropriate, in that type of aircraft provided the training was completed within the 12 calendar months before the month of application for the SIC pilot type rating. The person must comply with the following application and pilot certification procedures:

* * * * *

(f) The familiarization training requirements of paragraph (b) of this section do not apply to a person who is:

* * * * *

(i) The training under paragraphs (b) and (d) of this section and the training, proficiency check, and competency check under paragraph (e) of this section may be accomplished in a flight simulator that is used in accordance with an approved training course conducted by a training center certificated under part 142 of this chapter or under subpart K of part 91, part 121 or part 135 of this chapter.

(j) When an applicant for an initial second-in-command qualification for a particular type of aircraft receives all the training in a flight simulator, that applicant must satisfactorily complete one takeoff and one landing in an aircraft of the same type for which the qualification is sought. This requirement does not apply to an applicant who completes a proficiency check under part 121 or competency check under subpart K, part 91, part 125, or part 135 for the particular type of aircraft.

Issued in Washington, DC, on October 21, 2005.
Rebecca B. MacPherson,
Assistant Chief Counsel, Regulations Division, Office of the Chief Counsel.

[FR Doc. 05-21463 Filed 10-26-05; 8:45 am]

BILLING CODE 4910-13-P)